DEPARTMENT OF ENERGY

Federal Energy Regulatory Commission

Combined Notice of Filings #1

Take notice that the Commission received the following electric corporate filings:

Docket Numbers: EC23-134-000.

Applicants: Mt. Poso Cogeneration Company, LLC, Berry Corporation.

Description: Joint Application for Authorization Under Section 203 of the Federal Power Act of Mt. Poso Cogeneration Company, LLC, et al.

Filed Date: 9/22/23.

Accession Number: 20230922-5194.

Comment Date: 5 p.m. ET 10/13/23.

Take notice that the Commission received the following electric rate filings:

Docket Numbers: ER22-290-005.

Applicants: Oakland Power Company LLC.

Description: Compliance filing: Compliance Amend. to RMR Agmt. to Implement Settlement Agmt. to be effective 1/1/2022.

Filed Date: 9/25/23.

Accession Number: 20230925-5129.

Comment Date: 5 p.m. ET 10/16/23.

Docket Numbers: ER23-574-002.

Applicants: Oakland Power Company LLC.

Description: Tariff Amendment: Amend. to RMR Agmt. for Recovery of Costs of CARB Compliance to be effective 12/8/2022.

Filed Date: 9/25/23.

Accession Number: 20230925-5082.

Comment Date: 5 p.m. ET 10/16/23.

Docket Numbers: ER23-2919-000.

Applicants: PJM Interconnection, L.L.C.

Description: § 205(d) Rate Filing: Amendment to ISA, SA No. 5463; Queue No. AB2-190 to be effective 11/22/2023.

Filed Date: 9/22/23.

Accession Number: 20230922-5151.

Comment Date: 5 p.m. ET 10/13/23.

Docket Numbers: ER23-2920-000.

Applicants: Duke Energy Florida, LLC.

Description: § 205(d) Rate Filing: DEF-SECI RS No. 424—Reimbursement Agreement to be effective 11/22/2023.

Filed Date: 9/22/23.

Accession Number: 20230922-5153.

Comment Date: 5 p.m. ET 10/13/23.

Docket Numbers: ER23-2921-000.

Applicants: Duke Energy Progress, LLC.

Description: Tariff Amendment: DEP-Edenton Solar RS No. 375 Cancellation to be effective 11/22/2023.

Filed Date: 9/22/23.

Accession Number: 20230922-5157.

Comment Date: 5 p.m. ET 10/13/23.

Docket Numbers: ER23-2922-000.

Applicants: PJM Interconnection, L.L.C.

Description: § 205(d) Rate Filing: Original ISA, Service Agreement No. 7079; Queue No. AE1-106 to be effective 8/24/2023.

Filed Date: 9/25/23.

Accession Number: 20230925-5063.

Comment Date: 5 p.m. ET 10/16/23.

Docket Numbers: ER23-2923-000.

Applicants: PacifiCorp.

Description: § 205(d) Rate Filing: ESM Const Agmt Klamath Decommissioning Rev 1 to be effective 11/25/2023.

Filed Date: 9/25/23.

Accession Number: 20230925-5064.

Comment Date: 5 p.m. ET 10/16/23.

Docket Numbers: ER23-2924-000.

Applicants: PJM Interconnection, L.L.C.

Description: § 205(d) Rate Filing: Amendment to ISA, SA No. 1373; Queue No. H23/W70/K28 (amend) to be effective 11/25/2023.

Filed Date: 9/25/23.

Accession Number: 20230925-5107.

Comment Date: 5 p.m. ET 10/16/23.

Docket Numbers: ER23-2925-000.

Applicants: PJM Interconnection, L.L.C.

Description: § 205(d) Rate Filing: Original NSA, Service Agreement No. 7106; Queue No. AE2-309 to be effective 11/25/2023.

Filed Date: 9/25/23.

Accession Number: 20230925-5079.

Comment Date: 5 p.m. ET 10/16/23.

Docket Numbers: ER23-2926-000.

Applicants: Midcontinent Independent System Operator, Inc., Michigan Electric Transmission Company, LLC.

Description: § 205(d) Rate Filing: Midcontinent Independent System Operator, Inc. submits tariff filing per 35.13(a)(2)(iii: 2023-09-25_SA 4164 METC-DTE Electric E&P (J1914) to be effective 11/25/2023.

Filed Date: 9/25/23.

Accession Number: 20230925-5090.

Comment Date: 5 p.m. ET 10/16/23.

Docket Numbers: ER23-2927-000.

Applicants: Southwest Power Pool, Inc.

Description: § 205(d) Rate Filing: Revisions to Attachment AE Concerning Multi-Day Reliability Assessment Design to be effective 12/31/9998.

Filed Date: 9/25/23.

Accession Number: 20230925-5117.

Comment Date: 5 p.m. ET 10/16/23.

Docket Numbers: ER23-2928-000.

Applicants: Pennsylvania Electric Company, PJM Interconnection, L.L.C.

Description: § 205(d) Rate Filing: Pennsylvania Electric Company submits tariff filing per 35.13(a)(2)(iii: Penelec Amends 10 ECSAs (5573 5574 5577 5641 5647 5649 5651 5652 5653 5655) to be effective 12/31/9998.

Filed Date: 9/25/23.

Accession Number: 20230925-5122.

Comment Date: 5 p.m. ET 10/16/23.

Take notice that the Commission received the following electric securities filings:

Docket Numbers: ES23-71-000.

Applicants: ALLETE, Inc.

Description: Application Under Section 204 of the Federal Power Act for Authorization to Issue Securities of ALLETE, Inc.

Filed Date: 9/25/23.

Accession Number: 20230925-5084.

Comment Date: 5 p.m. ET 10/16/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: September 25, 2023.
Debbie-Anne A. Reese,
Deputy Secretary.

[FR Doc. 2023-21503 Filed 9-28-23; 8:45 am]

BILLING CODE 6717-01-P